ENVIRONMENTAL PROTECTION AGENCY

40 CFR Part 271

[FRL-6924-6]

Hazardous Waste Management Program: Final Authorization of State Hazardous Waste Management Program Revisions for State of Oklahoma

AGENCY: Environmental Protection Agency (EPA).

ACTION: Proposed rule and request for comment.

SUMMARY: The State of Oklahoma has applied for Final authorization of the changes to its hazardous waste program under the Resource Conservation and Recovery Act (RCRA), portions of Cluster VIII, and entire Cluster IX which contains Federal rules promulgated from July 1, 1998, to June 30, 1999. The EPA proposes to grant final authorization to the State of Oklahoma. In the “Rules and Regulations” section of this Federal Register, EPA is authorizing the changes by an immediate final rule. The EPA did not make a proposal prior to the immediate final rule because we believe this action is not controversial and do not expect comments that oppose it. EPA have explained the reasons for this authorization in the preamble to the immediate final rule. If EPA does not receive adverse written comments, the immediate final rule will become effective and the Agency will not take further action on this proposal. If EPA receives adverse written comments, second Federal Register document will be published before the time the immediate final rule takes effect. The second document may withdraw the immediate final rule before it takes effect and a separate document in the proposed rules section of this Federal Register will serve as a proposal to authorize the changes or the document may identify the issues raised, respond to comments, and affirm that the immediate final rule will take effect March 5, 2001. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Written comments must be received on or before February 1, 2001.

ADDRESSES: Mail written comments to Alima Patterson, Region 6, Regional Authorization Coordinator, Grants and Authorization Section (6PD-G), Multimedia Planning and Permitting Division, at the address shown below. You can examine copies of the materials submitted by the State of Oklahoma during normal business hours at the following locations: EPA Region 6, 1445 Ross Avenue, Dallas, Texas 75202-2733, (214) 665-6444; or Oklahoma Department of Environmental Quality, 707 North Robinson, Oklahoma City, Oklahoma 73101-1677.

FOR FURTHER INFORMATION CONTACT: Alima Patterson (214) 665-8533.

SUPPLEMENTARY INFORMATION: For additional information, please see the immediate final rule published in the “Rules and Regulations” section of this Federal Register.

Dated: December 7, 2000.
Myron O. Knudson,
Acting Regional Administrator, Region 6.

[FR Doc. 00-33156 Filed 12-29-00; 8:45 am]

BILLING CODE 6560-50-P